Proclamation 7812 of September 10, 2004

Patriot Day, 2004

By the President of the United States of America

A Proclamation

Three years ago, our country was ruthlessly attacked, and more than 3,000 innocent people lost their lives. We will always remember the victims: sons and daughters, husbands and wives, dads and moms, family members, co-workers, and friends. And we will always be inspired by the heroism and decency of our fellow citizens on that day. Police, firefighters, emergency rescue personnel, doctors, nurses, and many others risked their own lives to save the lives of their fellow citizens. They demonstrated the great character and bravery of our Nation, and they embody the great spirit of America.

Since September 11th, America has fought a relentless war on terror around the world. We are staying on the offensive in this war—striking the terrorists abroad so we do not have to face them here at home. We pray that God watch over our brave men and women in uniform and all who are waging this war and working to keep America safe. And we pray for their families. In the face of danger, America is showing its character. Three years after the attack on our country, Americans remain strong and resolute, patient in a just cause, and confident of the victory to come.

By a joint resolution approved December 18, 2001 (Public Law 107-89), the Congress has designated September 11 of each year as “Patriot Day.”

NOW, THEREFORE, I, GEORGE W. BUSH, President of the United States of America, do hereby proclaim September 11, 2004, as Patriot Day. I call upon the Governors of the United States and the Commonwealth of Puerto Rico, as well as appropriate officials of all units of government, to direct that the flag be flown at half-staff on Patriot Day. I call upon the people of the United States to observe Patriot Day with appropriate ceremonies and activities, including remembrance services, to display the flag at half-staff from their homes on that day, and to observe a moment of silence beginning at 8:46 a.m. eastern daylight time to honor the innocent victims who lost their lives as a result of the terrorist attacks of September 11, 2001.

IN WITNESS WHEREOF, I have hereunto set my hand this tenth day of September, in the year of our Lord two thousand four, and of the Independence of the United States of America the two hundred and twenty-ninth.

B

[FR Doc. 04-20951

Filed 9-14-04; 9:09 am]

Billing code 3195-01-P